ENVIRONMENTAL PROTECTION AGENCY

[ER-FRL-6637-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-H65014-MO Rating EC2, Pineknot Woodland Restoration Project, Open Shortleaf Pine Woodland Restoration, Implementation, Doniphan/Eleven Point Ranger District, Mark Twain National Forest, Carter County, MO.

Summary: EPA expressed environmental concerns with potential impacts to air and water quality. EPA requests that the final EIS include more detailed information on criteria for assessment of soil and water mitigation measures, compliance of prescribed burns with a smoke/fire management plan and discussion of how the proposed restoration habitat meets old growth habitat as currently defined in the Forest Plan Standard and Guidelines.

ERP No. D-AFS-J35006-UT Rating EC2, Fox and Crescent Reservoirs Maintenance Project, Dam Structures Operation and Maintenance, Special Use Permit Issuance, High Andes Wilderness, Ashley National Forest, Uinta Basin, Duchesne County, UT.

Summary: EPA supports the proposed action in order to supply existing water rights and commends the USFS for indentifying proposed mitigations. However, EPA expressed environmental concerns about the potential adverse impacts to water quality, fish and aquatic invertebrates, flow regimes and the release of sediment to downstream ecosystems.

ERP No. D-AFS-J65370-MT Rating EC2, Management Area 11 Snowmobile Use Areas on the Seeley Lake Ranger District, Implementation, Lola National Forest, Missoula and Powell Counties, MT.

Summary: EPA expressed environmental concerns regarding potential snowmobile impacts to grizzly bear and other wildlife and increased traffic and erosion and rutting of substandard roads that may impair water quality and fisheries, including 303(d) listed streams and threatened bull trout. EPA believes additional information is needed to fully assess and mitigate potential impacts of the proposed management actions.

ERP No. D-AFS-L65409-AK Rating EC2, Licking Creek Timber Sale, Timber Harvest, Implementation, Tongass National Forest, Ketchikan Misty Fiords Ranger District, Revillagigedo Island, Ketchikan, AK.

Summary: EPA expressed environmental concerns related to indirect and cumulative impacts of proposed silvicultural practices and road construction to water quality and fish resources, the Action Alternatives' reliance on even-aged silvicultural practices, and lack of project level watershed analysis. Also, we recommend the FEIS examine another possible Action Alternative that would address and mitigate for cumulative impacts while maintaining moderate economic efficiencies so that the EIS could include a viable Alternative that is less damaging and yet still provides economic benefits.

ERP No. D-FHW-F40411-MN Rating EC2, Trunk Highway 371 Corridor Reconstruction, US Truck Highway 10 to County State Aid Highway (CSAH) Highway 48, Funding, Morrison County, MN.

Summary: EPA expressed environmental concerns regarding impacts to aquatic and floodplain habitat. EPA recommended bridging of a stream and its associated floodplain, creation of a wetland site and requested a detailed wetland mitigation plan to be included in the final EIS.

ERP No. D-MMS-E02012-00 Rating LO, Eastern Gulf of Mexico Outer Continental Shelf Oil and Gas Lease Sales 189 (proposed for 2003) and 197 (proposed for 2005) Leasing Program 2002-2007, Eastern Planning Area, Counties and Parishes of TX, LA, MS, AL and FL.

Summary: While EPA has no objections to the action as proposed, EPA expressed interest in the results of ongoing studies to further define the fate and effects of mercury and other heavy metal pollutants in drilling and production waste discharges. EPA also requested clarification on the construction and operational impacts of future pipeline infrastructure.

ERP No. DS-AFS-J65349-UT Rating EC2, Griffin Springs Resource Management Project, New Information concerning the Life History and Analysis of Endangered, Threatened, Candidate, Sensitive and Management Indicator Species, Dixie National Forest, Escalante Range District, Garfield County, UT.

Summary: EPA previously identified road maintenance and upgrading, beetle suppression and other management activities as having potential significant impacts to old growth forests, wetlands and wildlife. EPA remains environmentally concerned that discussion of the purpose, need and risk involved with a large scale thinning operation and discussion of the transportation system in the final EIS did not fully address our concerns and could result in adverse impacts from ecosystem alteration and fragmentation.

ERP No. DS-COE-G36148-TX Rating LO, Dallas Floodway Extension, Flood Damage Reduction and Environmental Restoration, New Information concerning Additional Formulation, Trinity River Basin, Dallas County, TX.

Summary: EPA has no objection to the proposed action since EPA agreed with the conclusions drawn in the cumulative impact supplemental EIS.

Final EISs

ERP No. F-AFS-E60006-KY, Daniel Boone National Forest Land Exchange Project, Two Federal Tracts for 98.17 Acres of Privately Owned Land located in Owsley County, Federal Lands to be Exchanged are Tract 107AB (52.15 acres) located on Langdon Branch in Leslie County and Tract 745 (39.96 acres) located on Spicer Fork in Perry County, KY.

Summary: EPA continues to have environmental concerns about impacts to water quality and aquatic resources associated with subsequent surface mining activities.

ERP No. F-AFS-K65243-CA, Brown Darby Fuel Reduction Project, Combination of Salvage Harvesting of Trees Killed and Other Fuel Management Activities, Stanislaus National Forest, Calaveras Ranger District, Calaveras and Tuolumne Counties, CA.

Summary: No formal comment letter was sent to the preparing agency.

ERP No. F-NRC-D05124-VA, GENERIC EIS—North Anna Power Station, Units 1 and 2, Supplement 7 to NUREG-1437, License Renewal, VA.

Summary: EPA concurs with the analysis of the environmental impacts as they relate to the alternatives discussed in the report. EPA requests an opportunity to re-examine conclusions should they change as the license expiration date approaches.

ERP No. FS-NRC-E06012-SC, GENERIC EIS—Catawba Nuclear Station, Unit 1 and 2 (Catawba), Renewal of the Operating Licenses (OLs) for an Additional 20-Year Period, Supplement 9 to NUREG-1437, York County, SC.

Summary: EPA has no objection to the proposed action since our previous issues were resolved.

Dated: February 11, 2003.
Joseph C. Montgomery,
Director, NEPA Compliance Division, Office of Federal Activities.

[FR Doc. 03-3692 Filed 2-13-03; 8:45 am]

BILLING CODE 6560-50-P